DEPARTMENT OF AGRICULTURE

Animal and Plant Health Inspection Service

[Docket No. 05-015-1]

National Animal Identification System; Notice of Availability of a Draft Strategic Plan and Draft Program Standards

AGENCY: Animal and Plant Health Inspection Service, USDA.

ACTION: Notice of availability and request for comments.

SUMMARY: We are advising the public that a Draft Strategic Plan and a Draft Program Standards document for the National Animal Identification System (NAIS) are being made available for public review and comment. The Draft Strategic Plan describes the process of developing the NAIS, in particular the timeline for full implementation, while the Draft Program Standards document presents our current view of how the system would work when fully implemented.

DATES: We will consider all comments that we receive on or before June 6, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-015-1, Regulatory Analysis and Development, PPD, APHIS, Station 3C71, 4700 River Road Unit 118, Riverdale, MD 20737-1238. Please state that your comment refers to Docket No. 05-015-1.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Mr. Neil Hammerschmidt, Animal Identification Officer, Eradication and Surveillance Team, National Center for Animal Health Programs, VS, APHIS, 4700 River Road, Unit 43, Riverdale, MD 20737-1231; (301) 734-5571; or Dr. John F. Wiemers, National Animal Identification Staff, VS, APHIS, 2100 S. Lake Storey Road, Galesburg, IL 61401; (309) 344-1942.

SUPPLEMENTARY INFORMATION:

Background

On December 30, 2003, the Secretary of Agriculture announced that the U.S. Department of Agriculture (USDA) would expedite the implementation of a National Animal Identification System (NAIS) for all animal species after the discovery of bovine spongiform encephalopathy in a cow in Washington State. On April 27, 2004, following several months of development, the Secretary announced the framework for implementation of a NAIS designed to provide a unique identification number for agricultural premises and animals so that diseases can be more quickly contained and eradicated. The Secretary also announced that $18.8 million would be transferred from the Department's Commodity Credit Corporation to provide initial funding for the program during fiscal year (FY) 2004. The FY 2004 funding was earmarked for the initial infrastructure development and implementation of the NAIS, but both private and public support will be required to make it fully operational.

The NAIS will be implemented in several phases over time. Currently, the registration of premises, i.e., the locations where livestock are raised or held, is the primary activity of the NAIS. The second phase will involve the identification of animals. Certain species, such as cattle, will require individual identification, which will be accomplished by attaching to the animal an approved identification tag or device bearing an animal identification number (AIN). The AIN may be cross-referenced or linked to other technologies (e.g., radio frequency identification, retinal image, DNA, etc.) to automate the collection of the animal's number or to verify the animal's identification. Other species, such as swine and poultry, typically move through the production chain in groups or lots. These animals may be eligible for identification as a group.

In order to facilitate the implementation of the NAIS, on November 8, 2004, we published in the Federal Register (69 FR 64644-64651, Docket No. 04-052-1) an interim rule that, among other things, amended the regulations to recognize additional numbering systems for the identification of animals in interstate commerce and State/Federal/industry cooperative disease control and eradication programs and to redefine the numbering system used to identify premises where animals are managed or held. Specifically, the interim rule recognized the AIN as an official numbering system for the identification of individual animals, the group/lot identification number (GIN) for the identification of groups or lots of animals within the same production system, and the seven-character premises identification number (PIN) for the identification of premises in the NAIS. Use of the new numbering systems was not, however, required as a result of the interim rule. Finally, the interim rule amended the regulations to prohibit the removal of official identification devices and to eliminate potential regulatory obstacles to the recognition of emerging technologies that could offer viable alternatives to existing animal identification devices and methods.

As part of the ongoing NAIS development process, the USDA's Animal and Plant Health Inspection Service (APHIS) has completed a Draft Strategic Plan and a Draft Program Standards document. The NAIS Draft Strategic Plan, which covers the years 2005 to 2009, presents our current view of how the NAIS implementation process will unfold. The document provides a history of the NAIS' development to this point and examines some of the critical issues that must be dealt with in the course of implementing the system, including such stakeholder concerns as cost, confidentiality, flexibility, and liability. The Draft Strategic Plan also discusses the goals, key components, and guiding principles of the NAIS; APHIS' role in managing the system; and the means by which success will be measured. A timeline for full implementation of the NAIS is presented, as well as an outline of a five-stage State status designation process designed to measure progress toward that goal. The NAIS Draft Program Standards document, on the other hand, presents our current view of how the NAIS would work when fully implemented. The document contains, among other things, data standards for key components of the NAIS; descriptions of the roles and responsibilities of APHIS, State and tribal governments, and producers and other stakeholders in administering the NAIS; flow charts illustrating the workings of the system; identification and reporting requirements for animals moved within the United States, exported from the United States, and imported into the United States; species-specific procedures and requirements; an outline of the State status designation process referred to above; and definitions of key terms. Both documents are works in progress and will continue to be updated as more details are worked out. Updates will be posted on our Web site as they are made.

We are making the NAIS Draft Strategic Plan and the NAIS Draft Program Standards available to the public for review and comment. We will consider all comments that we receive on or before the date listed under the heading DATES at the beginning of this notice.

Though we will consider comments on any issues pertaining to the two documents, there are certain topics on which we would particularly like to solicit feedback from the public. Please consider the following questions in your comments:

• The Draft Strategic Plan calls for making the entire system mandatory by January 2009. Is a mandatory identification program necessary to achieve a successful animal disease surveillance, monitoring, and response system to support Federal animal health programs? Please explain why or why not.

• In the current Draft Strategic Plan, the NAIS would require that producers be responsible for having their animals identified before the animals move to a premises where they are to be commingled with other animals, such as a sale barn. At what point and how should compliance be ensured? For example, should market managers, fair managers, etc., be responsible for ensuring compliance with this requirement before animals are unloaded at their facility or event? Please give the reasons for your response.

• In regard to cattle, individual identification would be achieved with an AIN tag that would be attached to the animal's left ear. It is acknowledged that some producers do not have the facilities to tag their animals; thus, the Draft Program Standards document contains an option for tagging sites, which are authorized premises where owners or persons responsible for cattle could have the cattle sent to have AIN tags applied. Do you think this is a viable option, i.e., can markets or other locations successfully provide this service to producers who are unable to tag their cattle at their farms? Please give the reasons for your response.

• The current Draft Strategic Plan does not specify how compliance with identification and movement reporting requirements will be achieved when the sale is direct between a buyer and seller (or through their agents). In what manner should compliance with these requirements be achieved? Who should be responsible for meeting these requirements? How can these types of transactions be inputted into the NAIS to obtain the necessary information in the least costly, most efficient manner?

• USDA suggests that animals should be identified anytime prior to entering commerce or being commingled with animals from other premises. Is this recommendation adequate to achieve timely traceback capabilities to support animal health programs or should a timeframe (age limit) for identifying the animals be considered? Please give the reasons for your response.

• Are the timelines for implementing the NAIS, as discussed in the Draft Strategic Plan, realistic, too aggressive (i.e., allow too little time), or not aggressive enough (i.e., do not ensure that the NAIS will be implemented in a timely manner)? Please give the reasons for your response.

• Should requirements for all species be implemented within the same timelines, or should some flexibility be allowed? Please give the reasons for your response.

• What are the most cost-effective and efficient ways for submitting information to the database (entered via the Internet, file transfer from a herd-management computer system, mail, phone, third-party submission of data)? Does the type of entity (e.g., producer, market, slaughterhouse), the size of the entity, or other factors make some methods for information submission more or less practical, costly, or efficient? Please provide supporting information if possible.

• We are aware that many producers are concerned about the confidentiality of the information collected in the NAIS. Given the information identified in the draft documents, what specific information do you believe should be protected from disclosure and why?

• The NAIS as planned would require States, producers, and other participating entities to provide information and develop and maintain records. How could we best minimize the burden associated with these requirements? For example, should both the seller and the buyer of a specific group of animals report the movement of the animals, or is reporting by one party adequate?

A key issue in the development of the NAIS concerns the management of animal tracking information. Animal heath officials must have immediate, reliable, and uninterrupted access to essential NAIS information for routine surveillance activities and in the event of a disease outbreak. APHIS determined that this goal could best be achieved by having the data repositories managed by APHIS. The Draft Program Standards document provides for two main NAIS information repositories: The National Premises Information Repository and the National Animal Records Repository. The National Premises Information Repository would maintain data on each production and animal holding location (contact name, address, phone number, type of operation, etc.). The National Animal Records Repository would maintain animal identification and movement data.

Recently, however, an industry-led initiative suggested a privately managed database as an alternative for the management of data on animal tracking in the NAIS. The industry group stated that a private database would ensure that the needs of both government and industry would be fulfilled, and that the flow of information throughout the NAIS would be maintained in a secure and confidential manner.

APHIS is requesting comment from stakeholders regarding the utility of a privately managed database for holding animal location and movement information. Among the issues you may wish to comment on are the following:

• How should a private database system be funded? Please give the reasons for your response.

• Should the NAIS allow for multiple privately managed databases? Please explain why or why not.

• Should a public (government) system be made available as well as a privately managed system so that producers would have a choice? Please give the reasons for your response.

• Should a privately managed system include all species? Please give the reasons for your response.

• Would either system work equally well at the State level? Please explain why or why not.

The NAIS Draft Strategic Plan and the NAIS Draft Program Standards may be viewed on the Internet at http://www.usda.gov/nais. The documents may also be accessed through EDOCKET (see ADDRESSES above for instructions for accessing EDOCKET). You may request paper copies of the documents by calling or writing to the person listed under FOR FURTHER INFORMATION CONTACT. Please refer to the titles of the documents when requesting copies. The documents are also available for review in our reading room (information on the location and hours of the reading room is listed under the heading ADDRESSES at the beginning of this notice).

Done in Washington, DC, this 3rd day of May 2005.
Peter Fernandez,
Acting Administrator, Animal and Plant Health Inspection Service.

[FR Doc. 05-9113 Filed 5-5-05; 8:45 am]

BILLING CODE 3410-34-P